DEPARTMENT OF COMMERCE

International Trade Administration

[A-437-804 and A-471-806]

Notice of Antidumping Duty Orders: Sulfanilic Acid From Hungary and Portugal

AGENCY: Import Administration, International Trade Administration, Department of Commerce.

ACTION: Notice of Antidumping Duty Orders: Sulfanilic Acid from Hungary and Portugal.

EFFECTIVE DATE: November 8, 2002.

FOR FURTHER INFORMATION CONTACT: Audrey Twyman or John Brinkmann for Hungary, telephone: (202) 482-3534 or (202) 482-4126, respectively; and S. Anthony Grasso for Portugal, telephone: (202) 482-3853. Import Administration, International Trade Administration, U.S. Department of Commerce, 14th Street and Constitution Avenue, NW., Washington, DC 20230.

Applicable Statute and Regulations

Unless otherwise indicated, all citations to the statute are references to the provisions of the Tariff Act of 1930, as amended by the Uruguay Round Agreements Act effective January 1, 1995 (“the Act”). In addition, unless otherwise indicated, all citations to the Department of Commerce's (“the Department”) regulations are to 19 CFR part 351 (April 2001).

Scope of Orders

Imports covered by these orders are all grades of sulfanilic acid (“sulfanilic acid” or “subject merchandise”), which include technical (or crude) sulfanilic acid, refined (or purified) sulfanilic acid, and sodium salt of sulfanilic acid.

Sulfanilic acid is a synthetic organic chemical produced from the direct sulfonation of aniline and sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, currently classifiable under the subheading 2921.42.22 of the Harmonized Tariff Schedule (“HTS”), contains 96 percent minimum sulfanilic acid, 1.0 percent maximum aniline, and 1.0 percent maximum alkali insoluble materials. Refined sulfanilic acid, also currently classifiable under 2921.42.22 of the HTS, contains 98 percent minimum sulfanilic acid, 0.5 percent maximum aniline, and 0.25 percent maximum alkali insoluble materials.

Sodium salt (sodium sulfanilate), currently classifiable under the HTS subheading 2921.42.90, is a powder, granular, or crystalline material which contains 75 percent minimum equivalent sulfanilic acid, 0.5 percent maximum aniline based on the equivalent sulfanilic acid content, and 0.25 percent maximum alkali insoluble materials based on the equivalent sulfanilic acid content.

Although the HTS subheadings are provided for convenience and customs purposes, the written description of the scope of this order is dispositive.

Antidumping Duty Orders

In accordance with section 735(d) of the Act, on September 25, 2002, the Department published in the Federal Register the Notice of Final Determination of Sales at Less Than Fair Value: Sulfanilic Acid from Hungary, 67 FR 60221, and the Notice of Final Determination of Sales at Less Than Fair Value: Sulfanilic Acid from Portugal, 67 FR 60219.

On November 1, 2002, in accordance with section 735(d) of the Act, the U.S. International Trade Commission notified the Department that a U.S. industry is “materially injured,” within the meaning of section 735(b)(1)(A)(i) of the Act, by reason of imports of sulfanilic acid from Hungary and Portugal.

Therefore, in accordance with section 736(a)(3) of the Act, on or after the date of publication of this notice in the Federal Register, the U.S. Customs Service officers must require, at the same time as importers would normally deposit estimated duties on this merchandise, cash deposits for the subject merchandise equal to the estimated weighted-average dumping margins as noted below. The “All Others” rates apply to all exporters of sulfanilic acid from Hungary and Portugal not specifically listed below. The cash deposit rates are as follows:

Producer/exporter | Margin (percent)
Hungary:
Nitrokemia 2000 Rt. | 20.98
All Others | 20.98
Portugal:
Quimigal—Quimica de Portugal S.A. | 74.14
All Others | 74.14

Moreover, in accordance with section 736(a)(1) of the Act, the Department will direct the Customs Service to assess, upon further advice by the Department following the completion of a review requested under 19 CFR 351.213(b) or 19 CFR 351.214(b) (or if a review is not requested, in accordance with 19 CFR 351.212(c)), antidumping duties equal to the amount by which the normal value of the merchandise exceeds the export price of the merchandise of all entries of sulfanilic acid from Hungary and Portugal.

Pursuant to section 736(a)(1) of the Act, if appropriate, based on the above-noted further advice from the Department, for all producers and exporters of sulfanilic acid from Hungary and Portugal, antidumping duties will be assessed on all unliquidated entries of sulfanilic acid entered, or withdrawn from warehouse, for consumption on or after May 6, 2002, the date of publication of the Department's preliminary determinations with respect to sulfanilic acid from Hungary and Portugal in the Federal Register (see Notice of Preliminary Determination of Sales at Less Than Fair Value: Sulfanilic Acid from Hungary, 67 FR 30358, and Notice of Preliminary Determination of Sales at Less Than Fair Value and Postponement of Final Determination: Sulfanilic Acid from Portugal, 67 FR 30362).

This notice constitutes the antidumping duty orders with respect to sulfanilic acid from Hungary and Portugal, pursuant to section 736(a) of the Act. Interested parties may contact the Central Records Unit, Room B-099 of the Main Commerce Building for copies of an updated list of antidumping duty orders currently in effect.

These antidumping duty orders are published in accordance with section 736(a) of the Act and 19 CFR 351.211.

Dated: November 4, 2002.
Faryar Shirzad,
Assistant Secretary for Import Administration.

[FR Doc. 02-28523 Filed 11-7-02; 8:45 am]

BILLING CODE 3510-DS-P